CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed AmeriCorps NCCC's (National Civilian Community Corps) Member Experience Survey. This survey was developed to support NCCC performance measurement for use in program development, funding, and evaluation. The survey instrument will be completed by NCCC Members following the completion of their service term. In particular, this survey will be administered to NCCC Members who are exiting early or have already exited early from the AmeriCorps NCCC program. Completion of this information collection is not required for the completion of a service term with NCCC.

Copies of the information collection request can be obtained by contacting the office listed in the Addresses section of this Notice.

DATES: Written comments must be submitted to the individual and office listed in the ADDRESSES section by May 31, 2016.

ADDRESSES: You may submit comments, identified by the title of the information collection activity, by any of the following methods:

(1) By mail sent to: Corporation for National and Community Service, National Civilian Community Corps; Attention Barbara Lane, Director Projects and Partnerships, Room 3240, 250 E. Street SW., Washington, DC 20525.

(2) By hand delivery or by courier to the CNCS mailroom at Room 4200 at the mail address given in paragraph (1) above, between 9:00 a.m. and 4:00 p.m. Eastern Time, Monday through Friday, except federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Barbara Lane, 202-606-6867, or by email at blane@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

This information collection serves as part of an overall AmeriCorps NCCC logic model to help measure the degree to which the program is addressing the statuary areas of national and community needs in a way that strengthens communities and builds leaders. The survey will be administered electronically to all members departing early from the program.

Current Action

This is a new information collection request. The NCCC Member Experience Survey consists of between 29 and 30 questions, depending on which responses the respondents specify. All Members departing early from AmeriCorps NCC will receive their survey as a single instrument. Each NCCC Member will receive an individual survey. The exact same survey, not part of this information collection request, is administered to all graduating Members while they are in service and closed for completion prior to the completion of the program.

Type of Review: New.

Agency: Corporation for National and Community Service.

Title: NCCC Member Experience Survey.

OMB Number: None.

Agency Number: None.

Affected Public: The NCCC Member Experience Survey will be administered to the former NCCC Member for their most recent NCCC service term. These Members will have served with AmeriCorps NCCC for any length of time, without graduating. There are approximately 400 Members that depart the program early each year. The early exiting and former Members are uniquely able to provide the information sought in the NCCC Member Experience Survey.

Total Respondents: Based on the number of Members who have departed the program early over the last five annual years, NCCC expects to administer 450 surveys each fiscal year to Members who departed the program early. These may not be unique responders as a few Members may have served with NCCC in a prior service term.

Frequency: Biweekly. Each early departed Member will complete only one survey for their most recent service term.

Average Time per Response: Averages 25 minutes.

Estimated Total Burden Hours: 167 hours.

Total Burden Cost (capital/startup): None.

Total Burden Cost (operating/maintenance): None.

Comments submitted in response to this Notice will be summarized and/or included in the request for Office of Management and Budget approval of the information collection request; they will also become a matter of public record.

Dated: March 23, 2016.
Gina Cross,
Acting Director, National Civilian Community Corps.

[FR Doc. 2016-07160 Filed 3-29-16; 8:45 am]

BILLING CODE 6050-28-P